DEPARTMENT OF ENERGY

Federal Energy Regulatory Commission

[Docket Nos. AD22-11-000; AD21-9-000]

Office of Public Participation Fundamentals for Participating in FERC Matters; Notice of Virtual Workshop: Workshop on “Public Participation in the Natural Gas Pre-Filing Review Process”

Take notice that the Federal Energy Regulatory Commission (Commission) staff will convene, in the above-referenced proceeding, a virtual workshop on July 13, 2023, from 8:00 p.m. to 8:45 p.m. Eastern time or 7:00 p.m. to 7:45 p.m. Central time, to discuss public participation in the natural gas and liquified natural gas pre-filing review process. Commission staff will describe the pre-filing review process which was designed to encourage involvement in the development of a project by all stakeholders, including affected landowners, area residents, and other concerned parties in a manner that allows for the early identification and resolution of potential environmental issues and impacts. The intent of the workshop is to provide an overview of the pre-filing review process, emphasize public participation opportunities, and to outline resources available to assist the public. The workshop will be held virtually.

The workshop will be open for the public to participate virtually, and there is no fee for attendance. Further details on the workshop can be found on the FERC's Office of Public Participation website. Information about the workshop will also be posted on the Calendar of Events on the Commission's website, www.ferc.gov, prior to the event.

The workshop will be accessible under section 508 of the Rehabilitation Act of 1973. For accessibility accommodations, please send an email to accessibility@ferc.gov or call toll free 1-866-208-3372 (voice) or 202-502-8659 (TTY) or send a FAX to 202-208-2106 with the required accommodations.

For more information about the workshop, please contact Kelley Muñoz Lytle of the Commission's Office of Public Participation at 202-502-6739 or send an email to OPP@ferc.gov.

Dated: June 12, 2023.
Kimberly D. Bose,
Secretary.

[FR Doc. 2023-12954 Filed 6-15-23; 8:45 am]

BILLING CODE 6717-01-P